DEPARTMENT OF ENERGY

Federal Energy Regulatory Commission

Combined Notice of Filings #1

Take noticey that the Commission received the following electric rate filings:

Docket Numbers: ER23-1063-000.

Applicants: Alabama Power Company, Georgia Power Company, Mississippi Power Company.

Description: § 205(d) Rate Filing: Alabama Power Company submits tariff filing per 35.13(a)(2)(iii: City of Hartford NITSA Rollover Filing to be effective 1/1/2023.

Filed Date: 2/7/23.

Accession Number: 20230207-5137.

Comment Date: 5 p.m. ET 2/28/23.

Docket Numbers: ER23-1064-000.

Applicants: Upper Missouri G. & T. Electric Cooperative, Inc.

Description: § 205(d) Rate Filing: Certificate of Concurrence—SPP Service Agreement No. 4043 to be effective 1/12/2023.

Filed Date: 2/7/23.

Accession Number: 20230207-5146.

Comment Date: 5 p.m. ET 2/28/23.

Docket Numbers: ER23-1066-000.

Applicants: Citadel Solar, LLC.

Description: Tariff Amendment: Citadel Solar, LLC Notice of Cancellation of MBR Tariff to be effective 2/9/2023.

Filed Date: 2/8/23.

Accession Number: 20230208-5044.

Comment Date: 5 p.m. ET 3/1/23.

Docket Numbers: ER23-1067-000.

Applicants: PJM Interconnection, L.L.C.

Description: § 205(d) Rate Filing: Capacity Interconnection Rights in Effective Load Carrying Capability Construct to be effective 4/10/2023.

Filed Date: 2/8/23.

Accession Number: 20230208-5056.

Comment Date: 5 p.m. ET 3/1/23.

Docket Numbers: ER23-1068-000.

Applicants: Northwest Ohio IA, LLC.

Description: Baseline eTariff Filing: Shared Facilities Agrmt—w/Shortened Comment Period, Expedited Action & Waivers to be effective 2/8/2023.

Filed Date: 2/8/23.

Accession Number: 20230208-5058.

Comment Date: 5 p.m. ET 3/1/23.

Docket Numbers: ER23-1069-000.

Applicants: Northwest Ohio Solar, LLC.

Description: Baseline eTariff Filing: Certificate of Concurrence for Shared Facilities Agreement with Waiver to be effective 2/8/2023.

Filed Date: 2/8/23.

Accession Number: 20230208-5060.

Comment Date: 5 p.m. ET 3/1/23.

Docket Numbers: ER23-1070-000.

Applicants: Lockhart Transmission Holdings, LLC.

Description: § 205(d) Rate Filing: Facilities Use Agreements to be effective 2/9/2023.

Filed Date: 2/8/23.

Accession Number: 20230208-5063.

Comment Date: 5 p.m. ET 3/1/23.

Docket Numbers: ER23-1071-000.

Applicants: Northwest Ohio Wind, LLC.

Description: § 205(d) Rate Filing: Certificate of Concurrence for Shared Facilities Agreement with Waiver to be effective 2/8/2023.

Filed Date: 2/8/23.

Accession Number: 20230208-5064.

Comment Date: 5 p.m. ET 3/1/23.

Take notice that the Commission received the following electric securities filings:

Docket Numbers: ES23-35-000.

Applicants: NextEra Energy Transmission MidAtlantic Indiana, Inc.

Description: Application Under Section 204 of the Federal Power Act for Authorization to Issue Securities of NextEra Energy Transmission MidAtlantic Indiana, Inc.

Filed Date: 2/7/23.

Accession Number: 20230207-5188.

Comment Date: 5 p.m. ET 2/28/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2023.
Debbie-Anne A. Reese,
Deputy Secretary.

[FR Doc. 2023-03101 Filed 2-13-23; 8:45 am]

BILLING CODE 6717-01-P